DEPARTMENT OF TRANSPORTATION

Maritime Administration

[Docket No. MARAD-2025-0006]

Request for Comments on the Renewal of a Previously Approved Collection: Maritime Administration (MARAD) Jones Act Vessel Availability Determinations

AGENCY: Maritime Administration, DOT

ACTION: Notice.

SUMMARY: The Maritime Administration (MARAD) invites public comments on our intention to request approval from the Office of Management and Budget (OMB) to renew an information collection in accordance with the Paperwork Reduction Act of 1995. The proposed collection OMB 2133-0545 (Maritime Administration (MARAD) Jones Act Vessel Availability Determinations) is used to collect information about the availability of qualified Jones Act vessels. Since the last renewal, there was a reduction in the public burden for this collection. We are required to publish this notice in the Federal Register to obtain comments from the public and affected agencies.

ADDRESSES: Written comments and recommendations for the proposed information collections should be sent within 30 days of publication of this notice to www.reginfo.gov/public/do/ PRAMain. Find this particular information collection by selecting “Currently under 30-day Review—Open for Public Comments” or by using the search function.

FOR FURTHER INFORMATION CONTACT: Lance Murray, 202-617-7792, Office of Cargo and Commercial Sealift, Maritime Administration, U.S. Department of Transportation, 1200 New Jersey Avenue SE, Washington, DC 20590, Email: Cargo.MARAD@dot.gov.

SUPPLEMENTARY INFORMATION:

Title: Maritime Administration (MARAD) Jones Act Vessel Availability Determinations.

OMB Control Number: 2133-0545.

Type of Request: Extension of a previously approved information collection.

Abstract: Pursuant to 46 U.S.C. 501(b), the Maritime Administrator is required to make determinations about the availability of qualified United States flag capacity to carry coastwise cargo in connection with all requests for waivers of the Jones Act (46 U.S.C. 55102). This information collection supports that mission.

Respondents: Coastwise qualified vessel owners, operators, charterers, brokers, and representatives.

Affected Public: Business or other for profit.

Estimated Number of Respondents: 65.

Estimated Number of Responses: 260.

Estimated Hours per Response: .75.

Annual Estimated Total Annual Burden Hours: 195.

Frequency of Response: Four Times Annually.

A 60-day Federal Register Notice soliciting comments on this information collection was published on January 6, 2025 (90 Federal Register (FR) 725).

(Authority: The Paperwork Reduction Act of 1995; 44 U.S.C. Chapter 35, as amended; and 49 CFR 1.49.)

By Order of the Executive Director in lieu of the Maritime Administrator.
T. Mitchell Hudson, Jr.,
Secretary, Maritime Administration.

[FR Doc. 2025-04924 Filed 3-21-25; 8:45 am]

BILLING CODE 4910-81-P